FEDERAL COMMUNICATIONS COMMISSION

47 CFR Part 73

[DA 05-1986; MB Docket No. 05-128, RM-11210]

Radio Broadcasting Service; Tipton, OK

AGENCY: Federal Communications Commission.

ACTION: Final rule.

SUMMARY: The Audio Division, at the request of Charles Crawford allots Channel 233C3 at Tipton, Oklahoma, as the community's first local aural transmission service. See 70 FR 19407, published April 13, 2005. Channel 233C3 can be allotted to Tipton in compliance with the Commission's minimum distance separation requirements at the center of the community. The reference coordinates for Channel 233C3 at Tipton are 34-32-30 North Latitude and 99-14-10 West Longitude with a site restriction of 9.8 kilometers (6.1 miles) northwest of Tipton. A filing window for Channel 233C3 at Tipton, Oklahoma will not be opened at this time. Instead, the issue of opening a filing window for this channel will be addressed by the Commission in a subsequent order.

DATES: Effective August 29, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 05-128, adopted July 13, 2005, and released July 15, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Oklahoma, is amended by adding Tipton, Channel 233C3.

Federal Communications Commission.
John A. Karousos,
Assistant Chief, Audio Division, Media Bureau.

[FR Doc. 05-14961 Filed 8-2-05; 8:45 am]

BILLING CODE 6712-01-P